NUCLEAR REGULATORY COMMISSION

[Docket No. 72-0001; NRC-2021-0122]

GE-Hitachi Nuclear Energy Americas, LLC; Morris Operation Independent Spent Fuel Storage Installation

AGENCY: Nuclear Regulatory Commission.

ACTION: Environmental assessment and finding of no significant impact; issuance.

SUMMARY: The U.S. Nuclear Regulatory Commission (NRC) is considering a renewal for twenty years of special nuclear materials (SNM) License SNM-2500 for the possession, transfer, and storage of radioactive material at the Morris Operation independent spent fuel storage installation (ISFSI) in Grundy County, Illinois. The license is held by GE-Hitachi Nuclear Energy Americas, LLC, and, if renewed, would expire on May 31, 2042.

DATES: The environmental assessment (EA) and finding of no significant impact (FONSI) referenced in this document is available on November 17, 2022.

ADDRESSES: Please refer to Docket ID NRC-2021-0122 when contacting the NRC about the availability of information regarding this document. You may obtain publicly available information related to this document using any of the following methods:

• Federal Rulemaking Website: Go to https://www.regulations.gov and search for Docket ID NRC-2021-0122. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Christine Pineda, Office of Nuclear Material Safety and Safeguards, U.S. Nuclear Regulatory Commission, Washington, DC 20555-0001, telephone: 301-415-6789, email: Christine.Pineda@nrc.gov.

SUPPLEMENTARY INFORMATION:

I. Introduction

The NRC is considering a renewal of License SNM-2500, issued to GE-Hitachi Nuclear Energy Americas, LLC (GE-Hitachi), for operation of the Morris Operation ISFSI in Grundy County, Illinois. Therefore, as required by section 51.21 of title 10 of the Code of Federal Regulations (10 CFR), “Criteria for and identification of licensing and regulatory actions requiring environmental assessments,” the NRC performed an EA. Based on the results of the EA, the NRC has determined not to prepare an environmental impact statement (EIS) for the renewal and is issuing a FONSI. The NRC is also conducting a safety evaluation of the proposed license renewal.

II. Environmental Assessment

Description of and Need for the Proposed Action

The proposed license renewal would allow GE-Hitachi to continue operations at the Morris Operation ISFSI. As proposed, GE-Hitachi would continue to store spent fuel in a wet (water) storage facility consisting of a cask-loading basin and two spent fuel storage basins. In accordance with its license, GE-Hitachi cannot receive additional spent fuel or replace any spent fuel currently in inventory at the ISFSI without prior NRC approval. Continued storage of the spent fuel and continued operation of the ISFSI is necessary because Congress has not yet established a permanent national repository, and no facility is yet available for monitored retrievable storage.

The proposed action is in accordance with GE-Hitachi's application dated June 30, 2020, as supplemented on February 26, 2021, March 19, 2021, March 24, 2021, January 27, 2022, and May 12, 2022.

Environmental Impacts of the Proposed Action

Approval of the proposed action is not expected to result in changes to current ISFSI operations. Routine operation of the ISFSI is largely passive; activities include continuation of existing monitoring and maintenance activities for the wet storage basins, which are inside a building. The proposed action would not result in any changes in water use or in the types, characteristics, or quantities of radiological or nonradiological air effluents or wastes. GE-Hitachi would continue to operate onsite sanitary wastewater lagoons in compliance with its state-issued permit and would manage the radioactive wastewater system and solid radioactive wastes generated from ISFSI operations in accordance with NRC regulations. No wastewater would be discharged from the property. As a result of these continued ISFSI activities, no significant radiological or non-radiological environmental impacts are expected. Public and occupational dose estimates associated with the continued normal operation and maintenance of the ISFSI would continue to be at levels that are as low as reasonably achievable and within the limits of 10 CFR 20.1101 and 20.1201, respectively, as well as 10 CFR 72.104. The NRC staff also determined that the proposed action does not have the potential to cause effects on historic properties, assuming such historic properties were present. Accordingly, under 36 CFR 800.3(a)(1), no consultation is required under Section 106 of the National Historic Preservation Act.

Environmental Impacts of the Alternatives to the Proposed Action

As alternatives to the proposed action, the staff considered denial of the proposed action (i.e., the “no-action” alternative) and the shipment of spent fuel to an offsite facility. Under the no-action alternative, GE-Hitachi would continue to maintain the spent fuel under NRC license at the ISFSI. Ultimately, GE-Hitachi would need to remove the spent fuel, transport it to another ISFSI, and decommission the Morris Operation ISFSI. Until that time, storage at the ISFSI would continue and the potential environmental impacts would be the same as those assessed for the proposed action. The NRC determined that shipment of the spent fuel to a commercial reprocessing facility, a Federal repository, or an interim storage facility is not a reasonable alternative to renewing the license because these facilities are not available in the United States as of the date of the EA.

Agencies and Persons Consulted

The NRC staff consulted with the Illinois Emergency Management Agency, the Illinois Department of Natural Resources, and the Illinois Environmental Protection Agency regarding the environmental impact of the proposed action. These agencies had no comments on the NRC's assessment and conclusions in the EA.

The NRC staff contacted the Illinois State Historic Preservation Office (SHPO) to inform it of the proposed action, and the Illinois SHPO indicated its review of this project was not necessary. The NRC staff also notified 16 Federally recognized Indian Tribes of the proposed action.

III. Finding of No Significant Impact

Based on the EA, the NRC staff has determined that, pursuant to 10 CFR 51.31, preparation of an EIS is not required for the proposed action, and pursuant to 10 CFR 51.32, a FONSI is appropriate.

IV. Availability of Documents

The documents identified in the following table are available to interested persons through one or more of the following methods, as indicated.

Document description | ADAMS accession No.
Environmental Assessment for Proposed License Renewal | ML22270A269.
GE-Hitachi's Renewal Application, dated June 30, 2020 | ML20182A699 (Package).
Response to Request for Supplemental Information, dated February 26, 2021 | ML21057A119 (Package).
Response to Request for Clarification, dated March 19, 2021 | ML21085A859.
Submittal of Updated Consolidated Safety Analysis Report, dated March 24, 2021 | ML21083A200 (Package).
Response to Request for Additional Information, dated January 27, 2022 | ML22027A516.
Response to Request for Clarification, dated May 12, 2022 | ML22132A072.

Dated: November 10, 2022.
For the Nuclear Regulatory Commission.
Jessie M. Quintero,
Chief, Environmental Review Materials Branch, Division of Rulemaking, Environmental, and Financial Support, Office of Nuclear Material Safety and Safeguards.

[FR Doc. 2022-24993 Filed 11-16-22; 8:45 am]

BILLING CODE 7590-01-P